ENVIRONMENTAL PROTECTION AGENCY

[FRL-7242-1]

Agency Information Collection Activities: Proposed Collection; Comment Request; Construction Grants Delegation to States

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Construction Grants Delegation to States Information Collection Request, EPA ICR No. 0909.07 and Control No. 2040-0095, current expiration date March 31, 2003. Before submitting the ICR to OMB for review and approval, EPA is soliciting comments on specific aspects of the proposed information collection as described below.

DATES: Comments must be submitted on or before September 3, 2002.

ADDRESSES: Gajindar Singh, Office of Wastewater Management, Mail Code 4204M, U.S. Environmental Protection Agency, 1200 Pennsylvania Ave., NW., Washington, DC 20460. Interested persons may obtain a copy of the ICR without charge by writing to the preceding address.

FOR FURTHER INFORMATION CONTACT: Gajindar Singh, Telephone Number: (202) 564-0634 , Facsimile Number: (202) 501-2396, E-mail: singh.gajindar@epa.gov.

SUPPLEMENTARY INFORMATION: Comments: Comments shall be submitted to Gajindar Singh, Mail Code 4204M, Environmental Protection Agency, Office of Wastewater Management, 1200 Pennsylvania Ave., NW., Washington, DC 20460. Commenters who want EPA to acknowledge receipt of their comments should enclose a self-addressed stamped envelope. Comments may also be submitted electronically to singh.gajindar@epa.gov or faxed to (202) 501-2396.

Electronic comments must be submitted as a Word Perfect or Word file. Electronic comments must be identified by the use of words “Construction Grants Delegation Comments.” No Confidential Business Information (CBI) should be submitted through e-mail. Comments and data will also be accepted on disks in Corel Word Perfect or Word file. The record for this proposed ICR renewal has been established in the Office of Wastewater Management, Municipal Assistance Branch, and includes supporting documentation. It does not include any information claimed as CBI. The record is available for inspection from 9:00 a.m. to 4:00 p.m., Monday through Friday, excluding legal holidays, at the Municipal Assistance Branch, 1201 Constitution Ave., NW., Washington, DC 20460. For access to the docket materials, please call (202) 564-0634 to schedule an appointment.

Affected entities: Entities potentially affected by this action are States which administer elements of the construction grants program under a delegation agreement with EPA and municipalities which received construction grants from EPA.

Title: Construction Grants Delegation to States; OMB No. 2040 0095; EPA ICR No. 0909.07 expiring 3/31/2003.

Abstract: The purpose of this ICR is to revise and extend the current clearance for the collection of information under the Construction Grants Program Delegation to States, 40 CFR part 35, subpart J, and Title II of the Clean Water Act (CWA). While the Construction Grants Program is being phased out and replaced by the State Revolving Loan Fund (SRF) program, collection activities for the Construction Grants Program must continue until program completion. The program includes reporting, monitoring, and program requirements for municipalities and delegated States.

The information collection activities described in this ICR are authorized under section 205(g) of the Clean Water Act as amended, 33 U.S.C. 1251 et seq., and under 40 CFR part 35, subpart J. The requested information provides the minimum data necessary for the Federal government to maintain appropriate fiscal accountability for use of section 205(g) construction grant funds. The information is also needed to assure an adequate management overview of those State project review activities that are most important to fiscal and project integrity, design performance, Federal budget control, and attainment of national goals.

Managers at the State and Federal levels both rely on the information described in this ICR. State managers rely on the information for their own program and project administration. Federal managers rely on this information to assess, control, and predict the impacts of the construction grants program on the Federal Treasury. Federal managers also use this information to respond to OMB and Congressional requests and to maintain fiscal accountability. In addition, builders of wastewater treatment plants may use the information discussed in this ICR.

An agency may not conduct or sponsor, and a person is not required to respond to, a collection of information unless it displays a currently valid OMB control number. The OMB control numbers for EPA's regulations are listed in 40 CFR part 9 and 48 CFR chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: Respondents: States and municipalities.

Estimated Number of Respondents: 15.

Frequency of Response: 47 per year.

Responses Per Respondent: 2.6 per year.

Estimated Total Annual Hour Burden: 2,297 hours.

Average Burden Hours Per Response: 52.5.

Estimated Total Annualized Cost Burden: $98,432.

Burden means the total time, effort, or financial resources expended by persons to generate, maintain, retain, disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 26, 2002.
James A. Hanlon,
Director, Office of Wastewater Management.

[FR Doc. 02-16860 Filed 7-3-02; 8:45 am]

BILLING CODE 6560-50-P